NATIONAL AERONAUTICS AND SPACE ADMINISTRATION

[Notice 00-130]

NASA Advisory Council (NAC), Earth Science Data and Information Systems and Services Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Earth Systems Science and Applications Advisory Committee.

DATES: Monday, November 13, 2000, 8:30 a.m. to 5:30 p.m.; and Tuesday, November 14, 2000, 8:30 a.m. to 4 p.m.

ADDRESSES: NASA Headquarters, 300 E Street SW, Room MIC 6B, Washington, DC 20546.

FOR FURTHER INFORMATION CONTACT: Ms. Martha Maiden, Code YS, National Aeronautics and Space Administration, Washington, DC 20546, 202/358-1078.

SUPPLEMENTARY INFORMATION: The meeting will be open to the public up to the seating capacity of the room. The agenda for the meeting is as follows:

—EOSDIS: What were learning and where we need to go

—ESE Data needs and Innovative Answers for Science and Applications

—SWAMP SDWG Study and Beyond

—ESE Outreach

—Digital Earth

—Data Centers of the DAAC Alliance

—Federation Report

—New DISS Status

—Points for Comment, Recommendations from Day One

—Reconvene with Technology Subcommittee for Joint Session

—Introductions and Joint Objectives

—Overview of Information Technology (IT) within the ESE Technology Program

—Infusion of IT into ESE Data/Information Systems

—Near Term Roadmaps and AIST Projects

—ESE Vision Era activity

—Intelligent Systems Program

—SBIR, IT Emphasis in Next Call

—Former UPN 632— Recent IT Selections

—Software Framework requirements of HPCC/ESS Cooperative Agreement Notice

—Joint Committee Discussions

—ESDISSAS Reconvenes: Recommendations, Wrap-up

It is imperative that the meeting be held on these dates to accommodate the scheduling priorities of the key participants. Visitors will be requested to sign a visitor's register.

Dated: October 19, 2000.
Beth M. McCormick,
Advisory Committee Management Officer, National Aeronautics and Space Administration.

[FR Doc. 00-27315 Filed 10-24-00; 8:45 am]

BILLING CODE 7510-01-U